RAILROAD RETIREMENT BOARD

Agency Forms Submitted for OMB Review

SUMMARY: In accordance with the Paperwork Reduction Act of 1995 (44 U.S.C. chapter 35), the Railroad Retirement Board (RRB) has submitted the following proposal(s) for the collection of information to the Office of Management and Budget for review and approval.

Summary of Proposal(s)

(1) Collection title: Railroad Separation Allowance or Severance Pay Report.

(2) Form(s) submitted: BA-9.

(3) OMB Number: 3220-0173.

(4) Expiration date of current OMB clearance: 4/30/2002.

(5) Type of request: Extension of a currently approved collection.

(6) Respondents: Business or other for-profit.

(7) Estimated annual number of respondents: 18.

(8) Total annual responses: 1,009.

(9) Total annual reporting hours: 1,262.

(10) Collection description: Section 6 of the Railroad Retirement Act provides for a lump-sum payment to an employee or the employee's survivor equal to the Tier II taxes paid by the employee on a separation allowance or severance payment for which the employee did not receive credits towards retirement. The collection obtains information concerning the separation allowances and severance payments paid from railroad employers.

FOR FURTHER INFORMATION CONTACT: Copies of the forms and supporting documents can be obtained from Chuck Mierzwa, the agency clearance officer (312-751-3363). Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 02-5702 Filed 3-8-02; 8:45 am]

BILLING CODE 7905-01-M